DEPARTMENT OF THE INTERIOR

Fish and Wildlife Service

50 CFR Part 17

RIN 1018-AH10

Endangered and Threatened Wildlife and Plants; Designating Critical Habitat for Plant Species From the Island of Lanai, HI

AGENCY: Fish and Wildlife Service, Interior.

ACTION: Proposed rule; reopening of comment period and notice of availability of draft economic analysis.

SUMMARY: We, the U.S. Fish and Wildlife Service, announce the availability of the draft economic analysis for the proposed designations of critical habitat for plant species from the island of Lanai, Hawaii. We are also providing notice of the reopening of the comment period for the proposal to determine prudency and to designate critical habitat for these plants to allow peer reviewers and all interested parties to comment simultaneously on the proposed rule and the associated draft economic analysis. Comments previously submitted need not be resubmitted as they will be incorporated into the public record as part of this reopened comment period and will be fully considered in preparation of the final rule.

DATES: We will accept public comments until August 15, 2002.

ADDRESSES: Written comments and information should be submitted to Field Supervisor, U.S. Fish and Wildlife Service, Pacific Islands Office, 300 Ala Moana Blvd., P.O. Box 50088, Honolulu, HI 96850-0001. For further instructions on commenting, refer to Public Comments Solicited section of this notice.

FOR FURTHER INFORMATION CONTACT: Paul Henson, Field Supervisor, Pacific Islands Office, at the above address (telephone: 808/541-3441; facsimile: 808/541-3470).

SUPPLEMENTARY INFORMATION:

Background

A total of 37 plant species historically found on Lanai were listed as endangered or threatened species under the Endangered Species Act of 1973, as amended (Act), between 1991 and 1999. Seven of these species are endemic to the islands of Lanai, while 30 species are reported from one or more other islands, as well as Lanai.

In other published proposals we proposed that critical habitat was prudent for 35 of the 37 species (Abutilon eremitopetalum, Adenophorus periens, Bidens micrantha ssp. kalealaha, Bonamia menziesii, Brighamia rockii, Cenchrus agrimonioides, Centarium sebaeoides, Clermontia oblongifolia ssp. mauiensis, Ctenitis squamigera, Cyanea grimesiana ssp. grimesiana, Cyanea lobata, Cyanea macrostegia ssp. gibsonii, Cyperus trachysanthos, Cyrtandra munroi, Diellia erecta, Diplazium molokaiense, Gahnia lanaiensis, Hedyotis mannii, Hedyotis schlechtendahliana var. remyi, Hesperomannia arborescens, Hibiscus brackenridgei, Isodendrion pyrifolium, Labordia tinifolia var. lanaiensis, Mariscus faurei, Melicope munroi, Neraudia sericea, Portulaca sclerocarpa, Sesbania tomentosa, Silene lanceolata, Solanum incompletum, Spermolepis hawaiiensis, Tetramolopium remyi, Vigna o-wahuensis, and Viola lanaiensis, Zanthoxylum hawaiiense from the island of Lanai (64 FR 48307, 65 FR 66808, 65 FR 79192, 65 FR 82086, 65 FR 83158, and 67 FR 3940). No change was made to these prudency determinations in the March 4, 2002 (67 FR 9805) revised proposal. In addition, on December 27, 2000, we proposed that critical habitat for Phyllostegia glabra var. lanaiensis, was not prudent because it has not been seen recently in the wild, and no viable genetic material of this species is known (65 FR 82086). No change was made in the March 4, 2002, revised proposal to the not prudent determination for Phyllostegia glabra var. lanaiensis. In the March 4, 2002, revised proposal, we proposed that critical habitat is prudent for one other species, Tetramolopium lepidotum ssp. lepidotum, for which a prudency determination had not been made previously, and that no longer occurs on Lanai but is reported from one other island (Oahu) (67 FR 9805).

In the March 4, 2002, revised prudency and critical habitat proposal, we proposed critical habitat for 32 of the 37 species from the island of Lanai (67 FR 9805). Critical habitat was not proposed for 5 of the 37 species. The five species are Mariscus fauriei, Silene lanceolata, Tetramolopium lepidotum ssp. lepidotum, and Zanthoxylum hawaiiense which no longer occur on the island of Lanai and for which we are unable to identify any habitat that is essential to their conservation on the island of Lanai (67 FR 9805), and Phyllostegia glabra var. lanaiensis for which we determined that critical habitat designation was not prudent because it has not been seen recently in the wild and no viable genetic material of this species is known (65 FR 82086).

We have proposed to designate a total of 8 critical habitat units covering approximately 7,853 hectares (ha) (19,405 acres (ac)) on the island of Lanai.

Critical habitat receives protection from destruction or adverse modification through required consultation under section 7 of the Act (16 U.S.C. 1531 et seq.) with regard to actions carried out, funded, or authorized by a Federal agency. Section 4(b)(2) of the Act requires that the Secretary shall designate or revise critical habitat based upon the best scientific and commercial data available, and after taking into consideration the economic impact of specifying any particular area as critical habitat. Based upon the previously published proposal to designate critical habitat for plant species from Lanai, and comments received during the previous comment period, we have prepared a draft economic analysis of the proposed critical habitat designations. The draft economic analysis is available on the Internet and from the mailing address in the Public Comments Solicited section below.

Public Comments Solicited

We will accept written comments and information during this re-opened comment period. If you wish to comment, you may submit your comments and materials concerning this proposal by any of several methods:

(1) You may submit written comments and information to the Field Supervisor, U.S. Fish and Wildlife Service, Pacific Islands Office, 300 Ala Moana Blvd., P.O. Box 50088, Honolulu, HI 96850-0001.

(2) You may send comments by electronic mail (e-mail) to: Lanai_Crithab@r1.fws.gov. If you submit comments by e-mail, please submit them as an ASCII file and avoid the use of special characters and any form of encryption. Please also include “Attn: RIN 1018-AH10” and your name and return address in your e-mail message. If you do not receive a confirmation from the system that we have received your e-mail message, contact us directly by calling our Honolulu Fish and Wildlife Office at telephone number 808/541-3441.

(3) You may hand-deliver comments to our Honolulu Fish and Wildlife Office at the address given above.

Comments and materials received, as well as supporting documentation used in preparation of the proposal to designate critical habitat, will be available for inspection, by appointment, during normal business hours at the address under (1) above. Copies of the draft economic analysis are available on the Internet at http://pacificislands.fws.gov or by request from the Field Supervisor at the address and phone number under (1 and 2) above.

Author(s)

The primary author of this notice is John Nuss, U.S. Fish and Wildlife Service, Regional Office, 911 NE 11th Avenue, 4th floor, Portland, OR 97232-4181.

Authority

The authority for this action is the Endangered Species Act of 1973 (16 U.S.C. 1531 et seq.).

Dated: June 20, 2002.
Craig Manson,
Assistant Secretary for Fish and Wildlife and Parks.

[FR Doc. 02-18016 Filed 7-15-02; 8:45 am]

BILLING CODE 4310-55-P